INTERNATIONAL TRADE COMMISSION

[Investigation No. 337-TA-658]

In the Matter of Certain Video Game Machines and Related Three-Dimensional Pointing Devices; Notice of Commission Decision Not To Review an Initial Determination Terminating the Investigation Based on a Settlement Agreement

AGENCY: U.S. International Trade Commission.

ACTION: Notice.

SUMMARY: Notice is hereby given that the U.S. International Trade Commission has determined not to review the presiding administrative law judge's initial determination (“ID”) (Order No. 44) granting a joint motion to terminate the above-captioned investigation based on a settlement agreement.

FOR FURTHER INFORMATION CONTACT: Daniel E. Valencia, Office of the General Counsel, U.S. International Trade Commission, 500 E Street, SW., Washington, DC 20436, telephone (202) 205-1999. Copies of non-confidential documents filed in connection with this investigation are or will be available for inspection during official business hours (8:45 a.m. to 5:15 p.m.) in the Office of the Secretary, U.S. International Trade Commission, 500 E Street, SW., Washington, DC 20436, telephone (202) 205-2000. General information concerning the Commission may also be obtained by accessing its Internet server at http://www.usitc.gov. The public record for this investigation may be viewed on the Commission's electronic docket (EDIS) at http://edis.usitc.gov. Hearing-impaired persons are advised that information on this matter can be obtained by contacting the Commission's TDD terminal on (202) 205-1810.

SUPPLEMENTARY INFORMATION: The Commission instituted this investigation on September 23, 2008, based on a complaint filed by Hillcrest Laboratories, Inc. of Rockville, Maryland (“Hillcrest”), alleging violations of section 337 of the Tariff Act of 1930 (19 U.S.C. **1337) in the importation into the United States, the sale for importation, and the sale within the United States after importation of certain video game machines and related three-dimensional pointing devices by reason of infringement of certain claims of United States Patent Nos. 7,139,983; 7,158,118; 7,262,760; and 7,414,611. 73 FR 54854 (September 23, 2008). The complaint named Nintendo Co., Ltd. of Japan and Nintendo of America, Inc. of Redmond, WA (collectively, “Nintendo”) as respondents.

On August 21, 2009, Hillcrest and Nintendo jointly moved to terminate the investigation based on a settlement agreement. On August 31, 2009, the Commission investigative attorney supported the motion.

On September 8, 2009, the presiding administrative law judge issued the subject ID terminating the investigation. No petitions for review of this ID were filed.

The Commission has determined not to review the ID.

The authority for the Commission's determination is contained in section 337 of the Tariff Act of 1930, as amended (19 U.S.C. 1337), and in section 210.42 of the Commission's Rules of Practice and Procedure (19 CFR 210.42).

By order of the Commission.
Marilyn R. Abbott,
Secretary to the Commission.
Issued: September 28, 2009.
William R. Bishop,
Acting Secretary to the Commission.

[FR Doc. E9-23665 Filed 9-30-09; 8:45 am]

BILLING CODE P